DEPARTMENT OF THE INTERIOR

Minerals Management Service

Agency Information Collection Activities: Proposed Collection, Comment Request

AGENCY: Minerals Management Service (MMS), Interior.

ACTION: Notice of a revision of a currently approved collection (OMB Control Number 1010-0104).

SUMMARY: To comply with the Paperwork Reduction Act (PRA) of 1995, we are inviting comments on a collection of information that we will submit to the Office of Management and Budget (OMB) for review and approval. The information collection request (ICR) is titled “Certification for Not Performing Accounting for Comparison (Dual Accounting).”

DATES: Submit written comments on or before August 6, 2001.

ADDRESSES: Submit written comments to Paul Knueven, Regulations and FOIA Team, Minerals Revenue Management, Minerals Management Service, P.O. Box 25165, MS 320B2, Denver, Colorado 80225. If you use an overnight courier service, our courier address is Building 85, Room A-613, Denver Federal Center, Denver, Colorado 80225.

PUBLIC COMMENT PROCEDURE: Submit your comments to the addresses listed in the ADDRESSES section, or email your comments to us at mrm.comments@mms.gov. Include the title of the information collection and the OMB Control Number in the “Attention” line of your comment; also, include your name and return address. Submit electronic comments as an ASCII file avoiding the use of special characters and any form of encryption. If you do not receive a confirmation that we have received your email, contact Mr. Knueven at (303) 231-3316. We will post all comments at http://www.mrm.mms.gov/Laws_R_D/FRNptoce/FRInfColl.htm for public review.

We make copies of the comments available for public review, including names and addresses of respondents, during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

FOR FURTHER INFORMATION CONTACT: Paul Knueven, Regulations and FOIA Team, phone (303) 231-3316, FAX (303) 231-3385, email Paul.Knueven@mms.gov. A copy of the ICR will be available to you without charge upon request. The ICR will also be posted to our web site at http://www.mrm.mms.gov/Laws_R_D/FRNotices/FRInfColl.htm when we submit the ICR to OMB for review and approval.

SUPPLEMENTARY INFORMATION: Title: Certification for Not Performing Accounting for Comparison (Dual Accounting).

OMB Control Number: 1010-0104.

Bureau Form Number: Form MMS-4410.

Abstract: The Department of the Interior (DOI) is responsible for matters relevant to mineral resource development on Federal and Indian Lands and the Outer Continental Shelf (OCS). The Secretary of the Interior (Secretary) is responsible for managing the production of minerals from Federal and Indian Lands and the OCS, collecting royalties from lessees who produce minerals, and distributing the funds collected in accordance with applicable laws. The Secretary also has an Indian trust responsibility to manage Indian lands and seek advice and information from Indian beneficiaries. We perform the royalty management functions and assist the Secretary in carrying out DOI's Indian trust responsibility.

Accounting for comparison (dual accounting) is required by the terms of most Indian leases. To not perform dual accounting, a lessee must certify on Form MMS-4410, Certification For Not Performing Accounting For Comparison, that the gas was never processed prior to entering the pipeline with an index located in an index zone or into a mainline pipeline not in an index zone. This is a one-time certification that remains in effect until there is a change in leases status or ownership.

On August 10, 1999, we published a final rule titled “Amendments Gas Valuation Regulations for Indian Leases” (64 FR 43506) with an effective date of January 1, 2000. The gas regulations apply to all gas production from Indian (tribal or allotted) oil and gas leases (except leases on the Osage Indian Reservation). The new rule requires lessees to elect to perform either actual dual accounting, under 30 CFR § 206.176 (64 FR 43506), or the alternative methodology for dual accounting under 30 CFR § 206.173 (64 FR 43506).

By Dear Payor letter dated December 1, 1999, we notified lessees to report the dual accounting election on a monthly basis using new calculation method codes 04, Dual Accounting (actual dual accounting), or 05, Percent of Increase (alternative dual accounting), on the Report of Sales and Royalty Remittance, Form MMS-2014 (OMB Control Number 1010-0022). We are currently reengineering our business processes, and as part of this effort, we have redesigned and streamlined Form MMS-2014, effective October 1, 2001 (OMB Control Number 1010-0140). The revised Form MMS-2014 does not contain the dual accounting election information. Therefore, we are revising Form MMS-4410, so that this dual accounting election information continues to be reported to us. The revised Form MMS-4410 will reduce the payors burden of submitting the dual accounting election on a monthly basis on Form MMS-2014 to submitting the information every 2 years or whenever the payor elects alternative dual accounting.

Responses to this dual accounting requirement are mandatory for all Indian gas leases (except leases on the Osage Indian Reservation), whether the respondent's gas produced from an Indian lease is processed or not. Proprietary information is requested and protected, and there are no questions of a sensitive nature involved in this collection of information.

Frequency: On occasion.

Estimated Number and Description of Respondents: 370 payors on approximately 2,340 Indian gas leases.

Estimated Annual Reporting and Recordkeeping “Hour” Burden: 1,717 hours.

Estimated Annual Reporting and Recordkeeping “Non-hour Cost” Burden: We have identified no “non-hour cost” burdens.

Comments: The PRA (44 U.S.C. 3501, et seq.) provides that an agency may not conduct or sponsor, and a person is not required to respond to, a collection of information unless it displays a currently valid OMB Control Number. Before submitting an ICR to OMB, PRA Section 3506(c)(2)(A) requires each agency “* * * to provide notice * * * and otherwise consult with members of the public and affected agencies concerning each proposed collection of information * * *” Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology. We will summarize written responses to this notice and address them in our submission for OMB approval, including any appropriate adjustments to the estimated burden.

The PRA also requires agencies to estimate the total annual reporting “non-hour cost” burden to respondents or recordkeepers resulting from the collection of information. We have not identified any non-hour cost burdens for the information collection aspects of Form MMS-4410. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, testing equipment; and record storage facilities.

Generally, your estimates should not include equipment or services purchased: (i) before October 1, 1995; (ii) to comply with requirements not associated with the information collection; (iii) for reasons other than to provide information or keep records for the Government; or (iv) as part of customary and usual business or private practices.

MMS Information Collection Clearance Officer: Jo Ann Lauterbach (202) 208-7744.

May 23, 2001.
Barbara Desiderio,
Acting Associate Director for Minerals Revenue Management.

[FR Doc. 01-14274 Filed 6-5-01; 8:45 am]

BILLING CODE 4310-MR-W